DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section for date sanctions become effective.

FOR FURTHER INFORMATION CONTACT: OFAC: Associate Director for Global Targeting, tel.: 202-622-2420; Assistant Director for Sanctions Compliance & Evaluation, tel.: 202-622-2490, or; Assistant Director for Licensing, tel.: 202-622-2480.

SUPPLEMENTARY INFORMATION:

Electronic Availability

The Specially Designated Nationals and Blocked Persons List and additional information concerning OFAC sanctions programs are available on OFAC's website (www.treas.gov/ofac).

Notice of OFAC Actions

On January 10, 2020, OFAC determined that the property and interests in property subject to U.S. jurisdiction of the following persons are blocked under the relevant sanctions authorities listed below.

Individuals

1. REZA'I, Mohsen (a.k.a. REZAEI, Mohsen; a.k.a. REZAI, Mohsen), Iran; DOB 1954; POB Masjed-e Soleyman, Iran; nationality Iran; Additional Sanctions Information—Subject to Secondary Sanctions; Gender Male (individual) [IRAN-EO13876].

Designated pursuant to section 1(a)(ii)(A) of Executive Order 13876, 84 FR 30576, June 24, 2019, for being a person appointed to a position as a state official of Iran by the SUPREME LEADER OF IRAN, a person whose property and interests in property are blocked pursuant to E.O. 13876.

2. QOMI, Mohsen, Iran; DOB 1960; POB Mamazand, Varamin, Tehran, Iran; nationality Iran; Additional Sanctions Information—Subject to Secondary Sanctions; Gender Male (individual) [IRAN-EO13876].

Designated pursuant to section 1(a)(ii)(D) of Executive Order 13876, 84 FR 30576, June 24, 2019, for having acted or purported to act for or on behalf of, directly or indirectly, the SUPREME LEADER OF IRAN, a person whose property and interests in property are blocked pursuant to E.O. 13876.

3. NAQDI, Mohammad Reza (a.k.a. NAGHDI, Mohammad Reza; a.k.a. NAGHDI, Mohammedreza; a.k.a. NAQDI, Gholamreza; a.k.a. NAQDI, Gholam-reza; a.k.a. NAQDI, Mohammad-Reza; a.k.a. NAQDI, Muhammad; a.k.a. SHAMS, Mohammad Reza), Iran; DOB 1951 to 1953; alt. DOB 1960 to 1962; alt. DOB Apr 1961; alt. DOB 1953; POB Najaf, Iraq; alt. POB Tehran, Iran; nationality Iran; Additional Sanctions Information—Subject to Secondary Sanctions; Gender Male; Brigadier General and Commander of the IRGC Basij Resistance Force; President of the Organization of the Basij of the Oppressed; Chief of the Mobilization of the Oppressed Organization; Head of the Basij (individual) [SDGT] [NPWMD] [IRGC] [IFSR] [IRAN-HR] [IRAN-EO13876].

Designated pursuant to section 1(a)(ii)(A) of Executive Order 13876, 84 FR 30576, June 24, 2019, for being a person appointed to a position as a state official of Iran by the SUPREME LEADER OF IRAN, a person whose property and interests in property are blocked pursuant to E.O. 13876.

4. SOLEIMANI, Gholamreza (a.k.a. SOLEIMANI, Gholam Reza; a.k.a. SOLEYMANI, Gholam Reza), Iran; DOB 1964; alt. DOB 1965; POB Iran; nationality Iran; Additional Sanctions Information—Subject to Secondary Sanctions; Gender Male (individual) [IRAN-EO13876].

Designated pursuant to section 1(a)(ii)(A) of Executive Order 13876, 84 FR 30576, June 24, 2019, for being a person appointed to a position as a state official of Iran by the SUPREME LEADER OF IRAN, a person whose property and interests in property are blocked pursuant to E.O. 13876.

5. ASHTIANI, Mohammad-Reza (a.k.a. ASHTIANI, Mohammed Reza Gharayi), Iran; DOB 1960; alt. DOB 1961; POB Tehran, Iran; nationality Iran; Additional Sanctions Information—Subject to Secondary Sanctions; Gender Male (individual) [IRAN-EO13876].

Designated pursuant to section 1(a)(ii)(A) of Executive Order 13876, 84 FR 30576, June 24, 2019, for being a person appointed to a position as a state official of Iran by the SUPREME LEADER OF IRAN, a person whose property and interests in property are blocked pursuant to E.O. 13876.

6. ABDOLLAHI, Ali (a.k.a. ABDOLLAHI ALIABADI, Ali), Iran; DOB 1959; nationality Iran; Additional Sanctions Information—Subject to Secondary Sanctions; Gender Male (individual) [IRAN-EO13876].

Designated pursuant to section 1(a)(ii)(A) of Executive Order 13876, 84 FR 30576, June 24, 2019, for being a person appointed to a position as a state official of Iran by the SUPREME LEADER OF IRAN, a person whose property and interests in property are blocked pursuant to E.O. 13876.

7. MIR-HEJAZI, Asghar (a.k.a. HEJAZI, Ali Asghar; a.k.a. HEJAZI, Asghar; a.k.a. HEJAZI, Asghar Sadegh; a.k.a. HEJAZI, Seyyed Ali Asghar; a.k.a. MIR-HEJAZI RUHANI, Ali Asqar; a.k.a. MIRHEJAZI, Ali; a.k.a. MIR-HEJAZI, Ali Asqar), Iran; DOB 08 Sep 1946; POB Esfahan, Iran; nationality Iran; citizen Iran; Additional Sanctions Information—Subject to Secondary Sanctions; Gender Male; Security Deputy of Supreme Leader; Member of the Leader's Planning Chamber; Head of Security of Supreme Leader's Office; Deputy Chief of Staff of the Supreme Leader's Office (individual) [IRAN-HR] [IRAN-EO13876].

Designated pursuant to section 1(a)(ii)(D) of Executive Order 13876, 84 FR 30576, June 24, 2019, for having acted or purported to act for or on behalf of, directly or indirectly, the SUPREME LEADER OF IRAN, a person whose property and interests in property are blocked pursuant to E.O. 13876.

8. SHAMKHANI, Ali, Iran; DOB 29 Sep 1955; nationality Iran; Additional Sanctions Information—Subject to Secondary Sanctions; Gender Male; Admiral (individual) [IRAN-EO13876].

Designated pursuant to section 1(a)(ii)(A) of Executive Order 13876, 84 FR 30576, June 24, 2019, for being a person appointed to a position as a state official of Iran by the SUPREME LEADER OF IRAN, a person whose property and interests in property are blocked pursuant to E.O. 13876.

Entities

1. ESFAHAN'S MOBARAKEH STEEL COMPANY (a.k.a. ESFAHAN'S MOBARAKEH STEEL PUBLIC JOINT STOCK COMPANY), P.O. Box 161-84815, Mobarakeh, Esfahan 11131-84881, Iran; Mobarakeh Steel Company, Sa'adat Abad St., Azadi SQ., Esfahan, Esfahan, Iran; Mobarakeh Steel Company, No. 2, Gol Azin Alley, Kouhestan St., Ketah SQ., Sa'adat Abad, Tehran, Iran; website www.en.msc.ir; Additional Sanctions Information—Subject to Secondary Sanctions; National ID No. 10260289464 (Iran); Commercial Registry Number 411175869887 (Iran) [SDGT] [IFSR] [IRAN-EO13871] (Linked To: MEHR-E EQTESAD-E IRANIAN INVESTMENT COMPANY).

Designated pursuant to section 1(a)(i) of Executive Order 13871, 84 FR 20761, May 10, 2019, for operating in the iron, steel, aluminum, or copper sector of Iran.

2. SABA STEEL (a.k.a. SABA STEEL COMPANY), KM 45 on Esfahan Shahrekord Road, Isfahan, Iran; Additional Sanctions Information—Subject to Secondary Sanctions; National ID No. 5028 (Iran) [IRAN-EO13871].

Designated pursuant to section 1(a)(i) of Executive Order 13871, 84 FR 20761, May 10, 2019, for operating in the iron, steel, aluminum, or copper sector of Iran.

3. HORMOZGAN STEEL COMPANY (a.k.a. “HOSCO”), Shahid Rejaei Port Road KM 13, Bandar Abbas, Iran; Additional Sanctions Information—Subject to Secondary Sanctions [IRAN-EO13871].

Designated pursuant to section 1(a)(i) of Executive Order 13871, 84 FR 20761, May 10, 2019, for operating in the iron, steel, aluminum, or copper sector of Iran.

4. IRAN ALUMINUM COMPANY (a.k.a. IRAN ALUMINIUM COMPANY; a.k.a. IRANIAN ALUMINUM COMPANY; a.k.a. IRAN'S ALUMINUM COMPANY; a.k.a. “IRALCO”), No. 49 Mullah Sadra Street, Vanaq Square, After Kurdistan Crossroads, Tehran, Iran; P.O. Box 3, Arak, Iran; Additional Sanctions Information—Subject to Secondary Sanctions; Registration ID 2600 (Iran) [IRAN-EO13871].

Designated pursuant to section 1(a)(i) of Executive Order 13871, 84 FR 20761, May 10, 2019, for operating in the iron, steel, aluminum, or copper sector of Iran.

5. KHALAGH TADBIR PARS CO., No. 18, Azadegan Alley, Qaem Maqam-e-Farahani St., Tehran, Iran; Additional Sanctions Information—Subject to Secondary Sanctions [IRAN-EO13871].

Designated pursuant to section 1(a)(i) of Executive Order 13871, 84 FR 20761, May 10, 2019, for operating in the iron, steel, aluminum, or copper sector of Iran.

6. PAMCHEL TRADING BEIJING CO. LTD. (a.k.a. PAMCHEL ASIA CO., LTD; a.k.a. PAMCHEL ASIA STEEL GROUP COMPANY LIMITED), Room 328 Building 28, No. 17 Jianguomenwal Street Chaoyang District, Beijing, China; Rm. 503, Building No. 4, Xiandaicheng District, Beijing, China; Flat/Rm A, 9/F Silvercorp International Tower, 707-713 Nathan Road, Mongkok, Kowloon, Hong Kong; Additional Sanctions Information—Subject to Secondary Sanctions [IFCA] [IRAN-EO13871] (Linked To: KHALAGH TADBIR PARS CO.).

Designated pursuant to section 1(a)(iii) of Executive Order 13871, 84 FR 20761, May 10, 2019, for having knowingly engaged, on or after the date of this order, in a significant transaction for the purchase, acquisition, sale, transport, or marketing of iron, iron products, aluminum, aluminum products, steel, steel products, copper, or copper products from Iran.

Designated pursuant to section 1(a)(iv) of Executive Order 13871, 84 FR 20761, May 10, 2019, for having materially assisted, sponsored, or provided financial, material, or technological support for, or goods or services in support of PLACEHOLDER, a person whose property and interests in property are blocked pursuant to E.O. 13871.

7. POWER ANCHOR LIMITED, Mahe, Seychelles; Additional Sanctions Information—Subject to Secondary Sanctions [IRAN-EO13871] (Linked To: PAMCHEL TRADING BEIJING CO. LTD.).

Designated pursuant to section 1(a)(v) of Executive Order 13871, 84 FR 20761, May 10, 2019, for being owned or controlled by, or to have acted or purported to act for or on behalf of, directly or indirectly, PAMCHEL TRADING BEIJING CO. LTD., a person whose property and interests in property are blocked pursuant to E.O. 13871.

8. HONGYUAN MARINE CO LTD (a.k.a. HONGYUAN MARINE CO LTD HONG UNION), Room 905, China Hong Centre, 717, Zhongxing Lu, Jiangdong Qu, Ningbo, Zhejiang 315040, China; R1003-1008, Heyuan Enterprise Square, 2993 Gonghexin Rd, Shanghai 315040, China; website http://www.hong-union.com; Additional Sanctions Information—Subject to Secondary Sanctions; Identification Number IMO 5163651 [IRAN-EO13871].

Designated pursuant to section 1(a)(iii) of Executive Order 13871, 84 FR 20761, May 10, 2019, for having knowingly engaged, on or after the date of this order, in a significant transaction for the purchase, acquisition, sale, transport, or marketing of iron, iron products, aluminum, aluminum products, steel, steel products, copper, or copper products from Iran.

9. SOUTH KAVEH STEEL COMPANY (a.k.a. KISH SOUTH KAVEH STEEL COMPANY; a.k.a. SKS STEEL COMPANY; a.k.a. “SKS CO.”), No. 1/2 Seventh Ave., North Falamak-zarafshan intersections, Phase 4, Shahrak-E Gharb, Tehran, Iran; Persian Gulf Special Economic Zone, 13th Km Shahid Rajaee Highway, Bandar Abbas, Hormozgan, Iran; Next to Behjat Park, No. 12, Apartment Complex Kaveh Golabi Stre, Karimkhan Zand Avenue, Tehran, Iran; Additional Sanctions Information—Subject to Secondary Sanctions; Registration Number 7103 (Iran) [IRAN-EO13871].

Designated pursuant to section 1(a)(i) of Executive Order 13871, 84 FR 20761, May 10, 2019, for operating in the iron, steel, aluminum, or copper sector of Iran.

10. OXIN STEEL COMPANY (a.k.a. KHOUZESTAN OXIN STEEL COMPANY; a.k.a. KHOZESTAN OXIN STEEL COMPANY; a.k.a. KHUZESTAN OXIN STEEL COMPANY), Bandar Imam Khomeini (Blk) Road, 10 KM, Ahvaz 61788-13111, Iran; website www.oxinsteel.ir; Additional Sanctions Information—Subject to Secondary Sanctions; Registration Number 248247 (Iran) [IRAN-EO13871].

Designated pursuant to section 1(a)(i) of Executive Order 13871, 84 FR 20761, May 10, 2019, for operating in the iron, steel, aluminum, or copper sector of Iran.

11. ESFAHAN STEEL COMPANY (a.k.a. “ECSO”), End of Zob Ahan Highway- Esfahan Steel Company 8593111111, Iran; Townhid building, end of Zob Ahan Highway No. 178, Saadi Boulevard, The Steel Highway, Esfahan 81756-14461, Iran; PO Box 81756-14461, No. 178 Saadi Boulevard, Esfahan, Iran; website http://www.esfahansteel.ir; Additional Sanctions Information—Subject to Secondary Sanctions; Registration Number 25230 (Iran) [IRAN-EO13871].

Designated pursuant to section 1(a)(i) of Executive Order 13871, 84 FR 20761, May 10, 2019, for operating in the iron, steel, aluminum, or copper sector of Iran.

12. KHORASAN STEEL COMPANY (a.k.a. KHORASAN STEEL COMPLEX JOINT STOCK COMPANY), PO Box 91735-866, 27, Felestine Boulevard, Mashhad, Iran; website www.khorasansteel.com; Additional Sanctions Information—Subject to Secondary Sanctions; Registration Number 6581 (Iran) [IRAN-EO13871].

Designated pursuant to section 1(a)(i) of Executive Order 13871, 84 FR 20761, May 10, 2019, for operating in the iron, steel, aluminum, or copper sector of Iran.

13. ARFA IRON AND STEEL COMPANY (a.k.a. ARFA IRON & STEEL COMPANY; a.k.a. ARFA STEEL), No. 4, 4th Floor, Iraj Allay, Nelson Mandela (Africa) Street, Tehran, Iran; 25 km into the Ardakan-Nain Road, Ardakan, Iran; website www.arfasteel.com; Additional Sanctions Information—Subject to Secondary Sanctions; Registration Number 242295 (Iran) [IRAN-EO13871].

Designated pursuant to section 1(a)(i) of Executive Order 13871, 84 FR 20761, May 10, 2019, for operating in the iron, steel, aluminum, or copper sector of Iran.

14. IRAN ALLOY STEEL COMPANY (a.k.a. “IASCO”), No. 51 Mashahir Ave., Ghaem Magham Farhani St., Karimkhan St., Tehran, Iran; Azadegan Blvd., Martyr Dehghan Manshadi Blvd., Km 24, IASCO Road, Yazd, Iran; website www.iasco.ir; Additional Sanctions Information—Subject to Secondary Sanctions; Registration Number 2220 (Iran) [IRAN-EO13871].

Designated pursuant to section 1(a)(i) of Executive Order 13871, 84 FR 20761, May 10, 2019, for operating in the iron, steel, aluminum, or copper sector of Iran.

15. KHOUZESTAN STEEL COMPANY (a.k.a. KHUZESTAN STEEL COMPANY), 10th Km. of Ahwaz-Bahdar Imam Khomeini Road, Ahwaz, Iran; PO Box 1378, Ahvaz, Khuzestan 61788-13111, Iran; website www.ksc.ir; Additional Sanctions Information—Subject to Secondary Sanctions; Registration Number 3199 (Iran) [IRAN-EO13871].

Designated pursuant to section 1(a)(i) of Executive Order 13871, 84 FR 20761, May 10, 2019, for operating in the iron, steel, aluminum, or copper sector of Iran.

16. ALMAHDI ALUMINUM CO. (a.k.a. AL MAHDI ALUMINUM COMPANY), 1st Floor, No. 12, Bibie Shahrbanoei Ally., West Saeb Tabrizi St., North Sheikh Bahaei St., Molla Sadra St., Vanak Sq., Tehran, Iran; 18th Km., Shahid Rajaee Quay Road, Bandar Abbas, Iran; website http://almahdi.ir; Additional Sanctions Information—Subject to Secondary Sanctions [IRAN-EO13871].

Designated pursuant to section 1(a)(i) of Executive Order 13871, 84 FR 20761, May 10, 2019, for operating in the iron, steel, aluminum, or copper sector of Iran.

17. NATIONAL IRANIAN COPPER INDUSTRIES COMPANY (a.k.a. NATIONAL IRANIAN COPPER INDUSTRIES PUBLIC JOINT STOCK; a.k.a. “NICICO”), Next to Saei Park, Block No. 2161, Vali Asr Avenue, Tehran, Iran; PO Box 15115-416, Tehran, Iran; website www.nicico.com; Additional Sanctions Information—Subject to Secondary Sanctions; Registration Number 15957 (Iran) [IRAN-EO13871].

Designated pursuant to section 1(a)(i) of Executive Order 13871, 84 FR 20761, May 10, 2019, for operating in the iron, steel, aluminum, or copper sector of Iran.

18. GOLGOHAR MINING AND INDUSTRIAL COMPANY, No. 273, Dr. Fatemi Ave., Tehran 1414618551, Iran; 55 km, Shiraz Road, Sirjan, Kerman, Iran; PO Box 178185-111, Sirjan, Kerman, Iran; website www.geg.ir; Additional Sanctions Information—Subject to Secondary Sanctions [IRAN-EO13871].

Designated pursuant to section 1(a)(i) of Executive Order 13871, 84 FR 20761, May 10, 2019, for operating in the iron, steel, aluminum, or copper sector of Iran.

19. IRANIAN GHADIR IRON & STEEL CO. (a.k.a. IRANIAN GHADIR IRON AND STEEL CO.; a.k.a. “IGISCO”), 25th Km. Aradakan, Naein Road, Yazd, Iran; No. 1 34th Alley, Valiasr St., After Saei Park, Tehran, Iran; website www.igisco.com; Additional Sanctions Information—Subject to Secondary Sanctions [IRAN-EO13871].

Designated pursuant to section 1(a)(i) of Executive Order 13871, 84 FR 20761, May 10, 2019, for operating in the iron, steel, aluminum, or copper sector of Iran.

20. REPUTABLE TRADING SOURCE LLC (a.k.a. REPUTABLE TRADING SOURCE LLC COMPANY; a.k.a. “RTS LLC”), CR Number 1137785, PO Box: 888, Muscat 111, Oman; PO Box 1295: 111 CPO, Azaiba, Muscat, Oman; Additional Sanctions Information—Subject to Secondary Sanctions; Registration Number 1137785 (Oman) [IRAN-EO13871] (Linked To: KHOUZESTAN STEEL COMPANY).

Designated pursuant to section 1(a)(v) of Executive Order 13871, 84 FR 20761, May 10, 2019, for being owned or controlled by, or to have acted or purported to act for or on behalf of, directly or indirectly, KHOUZESTAN STEEL COMPANY, a person whose property and interests in property are blocked pursuant to E.O. 13871.

21. CHADORMALU MINING & INDUSTRIAL COMPANY (a.k.a. CHADORMALU MINING & INDUSTRIAL CO.; a.k.a. CHADORMALU MINING & INDUSTRIAL PUBLIC JOINT STOCK COMPANY; a.k.a. CHADORMALU MINING AND INDUSTRIAL CO.; a.k.a. CHADORMALU MINING AND INDUSTRIAL COMPANY; a.k.a. CHADORMALU MINING AND INDUSTRIAL PUBLIC JOINT STOCK COMPANY), 56, Vali-e-Asr Street, Opposite the Prayer, Esfandyar Boulevard, Tehran 1968653647, Iran; website www.chadormalu.com; Additional Sanctions Information—Subject to Secondary Sanctions; Registration Number 145857 (Iran) [IRAN-EO13871].

Designated pursuant to section 1(a)(i) of Executive Order 13871, 84 FR 20761, May 10, 2019, for operating in the iron, steel, aluminum, or copper sector of Iran.

Vessel

1. HONG XUN (D5GG9) Liberia flag; Additional Sanctions Information—Subject to Secondary Sanctions; Vessel Registration Identification IMO 9588885; MMSI 636016459 (vessel) [IRAN-EO13871] (Linked To: HONGYUAN MARINE CO LTD).

Identified pursuant to E.O. 13871 as property in which HONGYUAN MARINE CO LTD, an entity whose property and interest in property are blocked pursuant to E.O. 13871, has an interest.

Dated: January 10, 2020.
Andrea M. Gacki,
Director, Office of Foreign Assets Control.

[FR Doc. 2020-00596 Filed 1-15-20; 8:45 am]

BILLING CODE 4810-AL-P